DEPARTMENT OF COMMERCE

National Oceanic and Atmospheric Administration

[I.D. 022400A]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on March 20-23, 2000.

ADDRESSES: These meetings will be held at the Adams Mark Riverwalk Hotel, 111 Pecan Street East, San Antonio, TX; telephone: 210-354-2800.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

March 22

8:30 a.m.—Convene.

8:45 a.m. - 12:00 noon—Receive a report of the Joint Reef Fish/Mackerel Committees.

1:30 p.m. - 2:00 p.m.-Receive a report of the Red Drum Management Committee.

2:00 p.m. - 4:00 p.m.-Receive a report of the Reef Fish Management Committee.

4:00 p.m. - 4:30 p.m.-Receive a report of the Administrative Policy Committee.

4:30 p.m. - 4:45 p.m.-Receive a report of the Habitat Protection Committee.

4:45 p.m. - 5:00 p.m.-Receive a report of the Stone Crab Management Committee.

March 23

8:30 a.m. - 9:30 a.m.—Receive a report of the Mackerel Management Committee.

9:30 a.m. - 9:45 a.m.—Receive a report of the Joint Marine Reserves/Reef Fish Management Committees.

9:45 a.m. - 10:00 a.m.—Receive a report of the Shrimp Management Committee.

10:00 a.m. - 10:15 a.m.—Receive the NMFS Billfish Advisory Panel (AP) Report.

10:15 a.m. - 10:30 a.m.--Receive the NMFS HMS AP and International Commission for the Conservation for Atlantic Tunas Advisory Committee Reports.

10:30 a.m. - 11:00 a.m.--Receive Enforcement Reports.

11:00 a.m. - 11:15 a.m.--Receive a report of the Coral Reef Task Force and South Atlantic Fishery Management Council Liaison.

11:15 a.m. - 11:30 a.m.--Receive a report of the NOAA Strategic Planning Meeting.

11:30 a.m. - 11:45 a.m.--Receive the NMFS Regional Administrator's Report.

11:45 a.m. - 12:15 p.m.--Receive Director's Reports.

12:15 p.m.- 12:30 p.m.—Other Business.

Committees

March 20

9:00 a.m. - 10:00 a.m.—Convene the Administrative Policy Committee to discuss the legal status of National Standard Guidelines.

10:00 a.m. - 11:30 a.m.-Convene the Habitat Protection Committee to hear a report on the effects of using oil dispersants on marine organisms in shallow water, and a report on the NMFS workshop on the effects of fishing gear on the habitat.

11:30 a.m. - 12:00 noon--Convene the Red Drum Management Committee to review recommendations of the Red Drum Stock Assessment Panel for a subsequent meeting to review a new stock assessment.

1:00 p.m. - 5:30 p.m.--Convene the Joint Reef Fish/Management Committees to review the proposal from the Ad Hoc Charter Vessel/Headboat Advisory Panel for a new Federal permitting system for recreational for-hire vessels. Such a system would require development of a fishery management plan amendment for consideration by the public at hearings later in the year. The full Council will discuss the proposal from 8:45 a.m. to 12:00 noon on Wednesday.

March 21

8:30 a.m. - 9:30 a.m.—Convene the Stone Crab Management Committee to hear a report on a trap certificate program for the stone crab fishery, that is under development by the state of Florida.

9:30 a.m. - 10:30 a.m.--Convene the Shrimp Management Committee to review the scoping workshop summaries on the Options Paper for Shrimp Amendment 10 which addresses reduction of trawl bycatch in the eastern Gulf. Based on that review, the Committee will recommend further action to the Council.

10:30 a.m. - 12:00 noon—Convene the Joint Marine Reserves/Reef Fish Management Committees to discuss an Options Paper for Tortugas 2000 Marine Reserves Amendment. Based on that discussion a draft amendment will be developed for Council consideration at the May, 2000 meeting.

1:00 p.m. - 2:30 p.m.--Convene the Mackerel Management Committee to review recommendations from an InterCouncil Committee meeting of the Gulf, South Atlantic, and Caribbean Fishery Management Councils regarding a potential Dolphin/Wahoo Fishery Management Plan and will develop recommendations regarding future actions, including scheduling of public hearings.

2:30 p.m. - 5:30 p.m.--Convene the Reef Fish Management Committee to review a Preliminary Amendment 18 Scoping Document. This document will eventually become a major amendment regulating primarily the grouper fishery. At this preliminary state the Committee and Council will be identifying management measures for which staff should develop analyses of the biological, economic, and social impacts. Development of the draft amendment will continue over the next several Council meetings, with public hearings likely being scheduled in the fall.

Although non-emergency issues not contained in the agenda may come before the Council for discussion, in accordance with the Magnuson-Stevens Fishery Conservation and Management Act, those issues may not be the subject of formal Council action during this meeting. Council action will be restricted to those issues specifically identified in this notice and any issues arising after publication of this notice that require emergency action under section 305 (c) of the Magnuson-Stevens Act, provided the public has been notified of the Council's intent to take final action to address the emergency.

A copy of the Committee schedule and agenda can be obtained by calling (813) 228-2815.

Special Accommodations

These meetings are physically accessible to people with disabilities. Requests for sign language interpretation or other auxiliary aids should be directed to Anne Alford at the Council (see ADDRESSES) by March 13, 2000.

Dated: February 28, 2000.
Bruce C. Morehead,
Acting Director, Office of Sustainable Fisheries, National Marine Fisheries Service.

[FR Doc. 00-5224 Filed 3-2-00; 8:45 am]

BILLING CODE 3510-22-F